DEPARTMENT OF TRANSPORTATION

Federal Aviation Administration

14 CFR Part 39

[Docket No. FAA-2016-4226; Directorate Identifier 2015-NM-095-AD]

RIN 2120-AA64

Airworthiness Directives; Airbus Airplanes

AGENCY: Federal Aviation Administration (FAA), DOT.

ACTION: Notice of proposed rulemaking (NPRM).

SUMMARY: We propose to supersede Airworthiness Directive (AD) 2003-25-07 for certain Airbus Model A319 and A320 series airplanes; and AD 2005-13-39 for certain Airbus Model A321 series airplanes. AD 2003-25-07 currently requires a revision to the airplane flight manual (AFM) and replacement of both elevator aileron computers (ELACs) having L80 standards with new ELACs having L81 standards. AD 2005-13-39 currently requires a revision to the AFM, replacement of existing ELACs with ELACs having either L83 or L91 standards, as applicable; and a concurrent action. Since we issued AD 2003-25-07 and AD 2005-13-39, we have determined that new ELAC standards must be incorporated. The ELAC standards have been upgraded to version L97+, which implements enhanced angle-of-attack (AOA) monitoring to better detect AOA blockage, including multiple AOA blockages. This proposed AD would require replacing existing ELACs with new ELACs having L97+ standards or revising the software in an existing ELAC to the L97+ standards, as applicable, which would terminate the requirements of AD 2003-25-07 and AD 2005-13-39. This proposed AD would also add Airbus Model A318 series airplanes to the applicability. We are proposing this AD to prevent inadvertent activation of the AOA protections. Inadvertent activation of the AOA protections could result in a continuous nose down pitch rate that could result in reduced controllability of the airplane.

DATES: We must receive comments on this proposed AD by May 2, 2016.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this NPRM, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2016-4226; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Comments Invited

We invite you to send any written relevant data, views, or arguments about this proposed AD. Send your comments to an address listed under the ADDRESSES section. Include “Docket No. FAA-2016-4226; Directorate Identifier 2015-NM-095-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On December 5, 2003, we issued AD 2003-25-07, Amendment 39-13390 (68 FR 70431, December 18, 2003). AD 2003-25-07 requires a revision of the AFM and replacement of both ELACs having L80 standards with new ELACs having L81 standards on Airbus Model A319 and A320 series airplanes equipped with L80 standards. The replacement of both ELACs terminates the requirement for the AFM revision.

On June 17, 2005, we issued AD 2005-13-39, Amendment 39-14176 (70 FR 38580, July 5, 2005). AD 2005-13-39 requires a revision of the AFM, a concurrent action, and replacement of existing ELACs with ELACs having L83 or L91 standards on certain Airbus Model A321 series airplanes.

Since we issued AD 2003-25-07, Amendment 39-13390 (68 FR 70431, December 18, 2003); and AD 2005-13-39, Amendment 39-14176 (70 FR 38580, July 5, 2005); we have determined that new ELAC standards must be incorporated. The ELAC standard software has been updated to version L97+ and the hardware is available in a data loadable version and a non-data-loadable version.

The European Aviation Safety Agency (EASA), which is the Technical Agent for the Member States of the European Union, has issued EASA Airworthiness Directive 2015-0088R1, dated June 2, 2015 (referred to after this as the Mandatory Continuing Airworthiness Information, or “the MCAI”), to correct an unsafe condition for all Airbus Model A318, A319, A320, and A321 series airplanes. The MCAI states:

The latest elevator aileron computer (ELAC) standard, L97+, implements enhanced Angle of Attack (AOA) monitoring in order to better detect cases of AOA blockage, including multiple AOA blockage.

Two ELAC L97+ versions are currently available, Part Number (P/N) 3945129109 with data loading capability, and P/N 3945128215 without the data loading capability. Three existing [EASA] ADs requiring installation of earlier ELAC (software) have been identified and taken into account for cancellation by this new [EASA] AD.

For the reasons described above, EASA issued AD 2015-0088, cancelling DGAC [Direction Générale de l'Aviation Civile] France AD 95-203-072 (no requirements retained) [which corresponds to FAA AD 98-09-18, Amendment 39-10499 (63 FR 23374, April 29, 1998)], and partially retaining the requirements of DGAC France AD 2001-508 [which corresponds to FAA AD 2003-25-07, Amendment 39-13390 (68 FR 70431, December 18, 2003), and [DGAC] AD F-2004-147 (EASA approval ref. 2004-8601) [which corresponds to FAA AD 2005-13-39, Amendment 39-14176 (70 FR 38580, July 5, 2005)], which were superseded, and to require replacement of all ELAC with ELAC L97+ standard.

Since that [EASA] AD was issued, some errors were detected in Appendix 1 of the [EASA] AD, and one P/N ELAC was inadvertently omitted. This [EASA] AD revises EASA AD 2015-0088 to correct these errors and to add clarification to paragraph (7) [of the EASA AD].

The required actions include either replacing existing ELACs with new ELACs having L97+ standards uploaded, or revising the software in the existing ELACs to L97+ standards. This proposed AD also adds Airbus Model A318 series airplanes to the applicability. You may examine the MCAI in the AD docket on the Internet at http://www.regulations.gov by searching for and locating Docket No. FAA-2016-4226.

Related Service Information Under 1 CFR Part 51

Airbus has issued Service Bulletin A320-27-1243, dated March 17, 2015. The service information describes procedures for replacing the existing ELACs with new ELACs having L97+ standards, and modifying existing ELACs into units with L97+ standards.

Airbus has also issued Service Bulletin A320-27-1244, dated March 5, 2015. The service information describes procedures for modification of an airplane by replacing any existing ELAC unit with an ELAC 97+ unit having P/N 3945128215.

This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Costs of Compliance

We estimate that this proposed AD affects 940 airplanes of U.S. registry.

The actions required by AD 2003-25-07, Amendment 39-13390 (68 FR 70431, December 18, 2003), and retained in this proposed AD take about 1 work-hour per product, at an average labor rate of $85 per work-hour. Based on these figures, the estimated cost of the actions that are required by AD 2003-25-07 is $85 per product.

The actions required by AD 2005-13-39, Amendment 39-14176 (70 FR 38580, July 5, 2005), and retained in this proposed AD take about 1 work-hour per product, at an average labor rate of $85 per work-hour. Based on these figures, the estimated cost of the actions that are required by AD 2005-13-39 is $85 per product.

We also estimate that it would take about 3 work-hours per product to comply with the basic requirements of this proposed AD. The average labor rate is $85 per work-hour. Required parts would cost about $7,230 per product. Based on these figures, we estimate the cost of this proposed AD on U.S. operators to be $7,035,900, or $7,485 per product.

According to the parts manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2003-25-07, Amendment 39-13390 (68 FR 70431, December 18, 2003); and AD 2005-13-39, Amendment 39-14176 (70 FR 38580, July 5, 2005); and

b. Adding the following new AD:

Airbus: Docket No. FAA-2016-4226; Directorate Identifier 2015-NM-095-AD.

(a) Comments Due Date

We must receive comments by May 2, 2016.

(b) Affected ADs

This AD replaces AD 2003-25-07, Amendment 39-13390 (68 FR 70431, December 18, 2003); and AD 2005-13-39, Amendment 39-14176 (70 FR 38580, July 5, 2005).

(c) Applicability

This AD applies to the airplanes identified in paragraphs (c)(1) through (c)(4) of this AD, certificated in any category, all manufacturer serial numbers.

(1) Airbus Model A318-111, -112, -121, and -122 airplanes.

(2) Airbus Model A319-111, -112, -113, -114, -115, -131, -132, and -133 airplanes.

(3) Airbus Model A320-211, -212, -214, -231, -232, and -233 airplanes.

(4) Airbus Model A321-111, -112, -131, -211, -212, -213, -231, and -232 airplanes.

(d) Subject

Air Transport Association (ATA) of America Code 27, Flight Controls.

(e) Reason

This AD was prompted by a determination that new elevator aileron computers (ELAC) standards must be incorporated. The ELAC standards have been upgraded to version L97+, which implements enhanced angle-of-attack (AOA) monitoring to better detect AOA blockage, including multiple AOA blockages. We are issuing this AD to prevent inadvertent activation of the AOA protections. Inadvertent activation of the AOA protections could result in a continuous nose down pitch rate that could result in reduced controllability of the airplane.

(f) Compliance

Comply with this AD within the compliance times specified, unless already done.

(g) Retained Replacement of ELAC L80 Units With L81 Units, With No Changes

For Model A319 and A320 series airplanes, equipped with ELAC L80 standards having part numbers listed in Airbus Service Bulletin A320-27-1135, dated June 29, 2001: This paragraph restates the requirements of paragraph (b) of AD 2003-25-07, Amendment 39-13390 (68 FR 70431, December 18, 2003), with no changes. Within 1 year after January 22, 2004 (the effective date of AD 2003-25-07): Replace both ELACs having L80 standards with new ELACs having L81 standards, by doing all the actions per paragraphs A., B., C., and D. of the Accomplishment Instructions of Airbus Service Bulletin A320-27-1135, dated June 29, 2001.

(h) Retained Installation of ELAC L83 or L91 Software, With No Changes

For Model A321-111, -112, -131, -211, and -231 airplanes, except those with Airbus Modification 34043 installed in production: This paragraph restates the requirements of paragraph (g) of AD 2005-13-39, Amendment 39-14176 (70 FR 38580, July 5, 2005), with no changes. Within 16 months after August 9, 2005 (the effective date of AD 2005-13-39): Replace existing ELACs with ELACs having L83 standards, by accomplishing all of the actions specified in the Accomplishment Instructions of Airbus Service Bulletin A320-27-1151, dated March 9, 2004, including Appendix 01, dated March 9, 2004; or with ELACs having L91 standards, by accomplishing all of the actions specified in the Accomplishment Instructions of Airbus Service Bulletin A320-27-1152, dated June 4, 2004, including Appendix 01, dated June 4, 2004; as applicable.

(i) New Requirement of This AD: ELAC Replacement or Modification

At the applicable times specified in table 1 to paragraph (i) of this AD: Replace each ELAC unit with an ELAC L97+ unit having part number (P/N) 3945129100 and software having P/N 3945129109, or modify existing ELAC units into ELAC L97+ units having P/N 3945129100 with L97+ operational software P/N 3945129109 loaded, as applicable, in accordance with the Accomplishment Instructions of Airbus Service Bulletin A320-27-1243, dated March 17, 2015. Accomplishing this replacement terminates the actions required by paragraphs (g) and (h) of this AD.

Table 1 to Paragraph (i) of This AD—Compliance Times
Airbus airplane models | Compliance time (after the effective date of this AD)
Model A318 series airplanes with UTAS (formerly Goodrich) AOA P/N 0861ED or P/N 0861ED2 installed in all 3 positions (captain, first officer, and standby) | Within 5 months.
Model A319 series airplanes with UTAS (formerly Goodrich) AOA P/N 0861ED or P/N 0861ED2 installed in all 3 positions (captain, first officer, and standby) | Within 10 months.
Model A320 series airplanes with UTAS (formerly Goodrich) AOA P/N 0861ED or P/N 0861ED2 installed in all 3 positions (captain, first officer, and standby) | Within 10 months.
Model A321 series airplanes with UTAS (formerly Goodrich) AOA P/N 0861ED or P/N 0861ED2 installed in all 3 positions (captain, first officer, and standby) | Within 5 months.
Model A318, A319, A320, and A321 series airplanes that do not have UTAS (formerly Goodrich) AOA P/N 0861ED or P/N 0861ED2 installed in all 3 positions (captain, first officer, and standby) | Within 25 months.

(j) Optional Method of Compliance

Modification of an airplane by replacing any existing ELAC unit with an ELAC 97+ unit having P/N 3945128215, in accordance with the Accomplishment Instructions of Airbus Service Bulletin A320-27-1244, dated March 5, 2015, is an acceptable method of compliance for the requirements of paragraph (i) of this AD, for only that modified airplane. Accomplishing this modification terminates the actions required by paragraphs (g) and (h) of this AD for that modified airplane.

Note 1 to paragraph (j) of this AD: ELAC unit P/N 3945128215 is not data-loadable, but it is fully interchangeable and mixable with data-loadable ELAC 97+ unit P/N 3945129100 with software P/N 3945129109 loaded.

(k) Exclusion From Requirements of Paragraphs (g), (h), and (i), and the Actions in Paragraph (j), of This AD

Airplanes on which Airbus Modification 156546 (installation of ELAC L97+ with software P/N 3945129109) was installed in production are excluded from the requirements of paragraphs (g), (h), and (i) of this AD and the actions specified in paragraph (j) of this AD, provided it can be determined that no ELAC having a part number identified in table 2 to paragraph (k) of this AD has been installed on that airplane since the date of issuance of the original airworthiness certificate or the date of issuance of the original export certificate of airworthiness.

Table 2 to Paragraph (k) of This AD—Prohibited ELAC Part Numbers
Part number | Designation | FIN
3945122202 | ELAC A320-111 Type Def | 2 CE 1/2.
3945122203 | ELAC L50C | 2 CE 1/2.
3945122303 | ELAC L50C | 2 CE 1/2.
3945122304 | ELAC L60 | 2 CE 1/2.
3945122305 | ELAC L61B | 2 CE 1/2.
3945122306 | ELAC L61F | 2 CE 1/2.
3945122307 | ELAC L62C | 2 CE 1/2.
C12370AA01 | ELAC L68C | 2 CE 1/2.
3945122501 | ELAC L69 | 2 CE 1/2.
3945122502 | ELAC L69J | 2 CE 1/2.
3945122503 | ELAC L77 | 2 CE 1/2.
3945122504 | ELAC L78 | 2 CE 1/2.
3945122505 | ELAC A L80 | 2 CE 1/2.
3945123505 | ELAC A' L80 | 2 CE 1/2.
3945128101 | ELAC B L80 | 2 CE 1/2.
3945122506 | ELAC A L81 | 2 CE 1/2.
3945123506 | ELAC A' L81 | 2 CE 1/2.
3945128102 | ELAC B L81 | 2 CE 1/2.
3945122507 | ELAC A L82 | 2 CE 1/2.
3945123507 | ELAC A' L82 | 2 CE 1/2.
3945128103 | ELAC B L82 | 2 CE 1/2.
3945122608 | ELAC A L83 | 2 CE 1/2.
3945123608 | ELAC A' L83 | 2 CE 1/2.
3945122609 | ELAC A L84 | 2 CE 1/2.
3945123609 | ELAC A' L84 | 2 CE 1/2.
3945128204 | ELAC B L90L | 2 CE 1/2.
3945128205 | ELAC B L90N | 2 CE 1/2.
3945128206 | ELAC B L91 | 2 CE 1/2.
3945129101 | ELAC B L91 data loadable | 2 CE 1/2 SW1.
3945128207 | ELAC B L92 | 2 CE 1/2.
3945128208 | ELAC B L92L | 2 CE 1/2.
3945128209 | ELAC B L93 | 2 CE 1/2.
3945129103 | ELAC B L93 data loadable | 2 CE 1/2 SW1.
3945128210 | ELAC B L94 | 2 CE 1/2.
3945129104 | ELAC B L94 data loadable | 2 CE 1/2 SW1.
3945128212 | ELAC B L96 | 2 CE 1/2.
3945129106 | ELAC B L96 data loadable | 2 CE 1/2 SW1.
3945129107 | ELAC B L96 H-A data loadable | 2 CE 1/2 SW1.
3945128214 | ELAC B L97 | 2 CE 1/2.
3945129108 | ELAC B L97 data loadable | 2 CE 1/2 SW1.

(l) Later-Approved Parts

Installation of an ELAC version (part number) approved after the effective date of this AD is an approved method of compliance with the requirements of paragraphs (i) and (j) of this AD, provided the requirements specified in paragraphs (l)(1) and (l)(2) of this AD are met.

(1) The version (part number) must be approved by the Manager, International Branch, ANM-116, Transport Airplane Directorate, FAA; or the European Aviation Safety Agency (EASA); or Airbus's EASA Design Organization Approval (DOA).

(2) The installation must be done using a method approved by the Manager, International Branch, ANM-116, Transport Airplane Directorate, FAA; or the EASA; or Airbus's EASA DOA.

(m) Parts Installation Limitation

As of the applicable time specified in paragraph (m)(1) or (m)(2) of this AD, do not install on any airplane an ELAC unit having a part number identified in table 2 to paragraph (k) of this AD, except as specified in paragraph (m)(3) of this AD.

(1) For an airplane that, as of the effective date of this AD, has any ELAC unit installed having a part number identified in table 2 to paragraph (k) of this AD: After modification of that airplane as required by paragraph (i) of this AD, or as specified in paragraph (j) of this AD.

(2) For an airplane that, as of the effective date of this AD, does not have any ELAC unit installed having a part number identified in table 2 to paragraph (k) of this AD: As of the effective date of this AD.

(3) As of the effective date of this AD, a data-loadable ELAC B unit having a part number identified in table 2 to paragraph (k) of this AD can be installed on an airplane provided that L97+ software P/N 3945129109 is uploaded at the applicable time specified in paragraph (m)(3)(i) or (m)(3)(ii) of this AD.

(i) For all airplanes except those identified in paragraph (m)(3)(ii) of this AD: Before further flight after the ELAC B unit installation.

(ii) For airplanes that have not been modified as required by paragraph (i) of this AD: Within the applicable compliance time specified in table 1 to paragraph (i) of this AD.

(n) Other FAA AD Provisions

The following provisions also apply to this AD:

(1) Alternative Methods of Compliance (AMOCs): The Manager, International Branch, ANM-116, Transport Airplane Directorate FAA, has the authority to approve AMOCs for this AD, if requested using the procedures found in 14 CFR 39.19. In accordance with 14 CFR 39.19, send your request to your principal inspector or local Flight Standards District Office, as appropriate. If sending information directly to the International Branch send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov.

(i) Before using any approved AMOC, notify your appropriate principal inspector, or lacking a principal inspector, the manager of the local flight standards district office/certificate holding district office. The AMOC approval letter must specifically reference this AD.

(ii) AMOCs approved previously for AD 2003-25-07, Amendment 39-13390 (68 FR 70431, December 18, 2003), are approved as AMOCs for the corresponding provisions of paragraph (g) of this AD.

(iii) AMOCs approved previously for AD 2005-13-39, Amendment 39-14176 (70 FR 38580, July 5, 2005), are approved as AMOCs for the corresponding provisions of paragraph (h) of this AD.

(2) Contacting the Manufacturer: As of the effective date of this AD, for any requirement in this AD to obtain corrective actions from a manufacturer, the action must be accomplished using a method approved by the Manager, International Branch, ANM-116, Transport Airplane Directorate, FAA; or the EASA; or Airbus's EASA DOA. If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(o) Related Information

(1) Refer to Mandatory Continuing Airworthiness Information (MCAI) EASA Airworthiness Directive 2015-0088R1, dated June 2, 2015, for related information. This MCAI may be found in the AD docket on the Internet at http://www.regulations.gov by searching for and locating Docket No. FAA-2016-4226.

(2) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on March 9, 2016.
Michael Kaszycki,
Acting Manager, Transport Airplane Directorate, Aircraft Certification Service.

[FR Doc. 2016-05830 Filed 3-16-16; 8:45 am]

BILLING CODE 4910-13-P